DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to section 10(c) of the Endangered Species Act of 1973, as amended (16 U.S.C. 1531 et seq.).

DATES: Written data or comments on these applications must be received, at the address given below, by January 22, 2002.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESSES). You may also comment via the internet to “victoria_davis@fws.gov”. Please submit comments over the internet as an ASCII file avoiding the use of special characters and any form of encryption. Please also include your name and return address in your internet message. If you do not receive a confirmation from the Service that we have received your internet message, contact us directly at either telephone number listed above (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Living Seas, Walt Disney World, Lake Buena Vista, Florida, TE050053-0.

The applicant requests authorization to take (receive, hold temporarily, provide medical treatment for injury or illness, satellite tag, release, and euthanize) the Loggerhead sea turtle (Caretta caretta), Green sea turtle (Chelonia mydas), Leatherback sea turtle (Dermochelys coriacea), Kemp's ridley sea turtle (Lepidochelys kempii), and Hawksbill sea turtle (Eretmochelys imbricata). The rehabilitation activities will take place on Walt Disney World property, Lake Buena Vista, Florida. Release activities will take place within the natural range of species.

Applicant: Eric J. McClanahan, Ecological Associates, Inc., TE050048-0

The applicant requests authorization to harass (perform roost checks and install cavities) the Red-cockaded woodpecker (Picoides borealis) to provide suitable nesting and roosting cavities for various clusters in the Francis Marion National Forest, Berkeley and Charleston Counties, South Carolina. Artificial cavity construction is a proven management tool for Picoides borealis and installation of cavities aid in recruitment of new clusters to populations and aid in maintaining existing clusters.

Applicant: Marine Science Center, County of Volusia Leisure Services, Bill Apgar, TE050044-0.

The applicant requests authorization to take (receive, hold temporarily, transport, provide medical treatment for injury or illness, release, and euthanize) the Loggerhead sea turtle (Caretta caretta), Green sea turtle (Chelonia mydas), Leatherback sea turtle (Dermochelys coriacea), Kemp's ridley sea turtle (Lepidochelys kempii), and Hawksbill sea turtle (Eretmochelys imbricata). The rehabilitation activities will take place at the Marine Science Center, Ponce Inlet, Florida. The turtles will be transported for medical treatment to Dr. Mark A. Salzburg's medical facility, Ormond Beach, Florida.

Applicant: Michelle J. Davis, University of California, Santa Cruz, California, TE050040-0.

The applicant requests authorization to take (survey, capture, identify, band, and release) the Cape Sable Seaside sparrow (Ammodramus maritimus mirablis) to determine the effects of fire on their demography. The proposed activities will take place in the East Camp, Everglades National Park, Miami-Dade County, Florida.

Applicant: Margaret S. Devall, Center for Bottomland Hardwoods Research, Stoneville, Mississippi, TE049513-0.

The applicant requests authorization to remove and reduce to possession specimens of Lindera melissifolia, pondberry. The purposes of removal and possession of Lindera melissifolia are to conduct cuttings of plants for rooting and tissue culture and to provide experimental plants for a large study on the effect of the Yazoo Backwater Reformulation Project. Cuttings will be taken from 10 populations on the Delta National Forest, Sharkey County, Mississippi. Cuttings will be rooted in the greenhouse at the Center for Bottomland Hardwoods Research, Stoneville, Mississippi. The study of the effect of the Yazoo Backwater Reformulation Project will take place near the Center for Bottomland Hardwoods Research.

Applicant: Jennifer E. Buhay, Charles Lydeard, and David I. Withers, University of Alabama, TE049506-0.

The applicant requests authorization to take (survey, capture, identify, release, and euthanize four males) the Nashville crayfish (Orconectes shoupi). The purpose of the project is to assess the morphological and genetic diversity of the freshwater crayfish genus Orconectes which occupy small streams and caves across the Tennessee and Cumberland River systems. The following will be examined: (1) Utility of internal morphological features of males, females, and juveniles are unique for the identification of the twenty-five Orconectes species that occur in the Tennessee and Cumberland River systems, (2) evolutionary relationships of the twenty-five Orconectes species using mtDNA gene sequences, and (3) levels of intra-specific genetic variation of 13 native stream Orconectes species and 1 introduced species using mtDNA fingerprinting. The proposed activities will take place in the Mill Creek watershed and the Cumberland River drainage, Davidson and Williamson Counties, Tennessee.

Dated: December 14, 2001.
Sam D. Hamilton,
Regional Director.

[FR Doc. 01-31465 Filed 12-20-01; 8:45 am]

BILLING CODE 4310-55-P